DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 13, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Produce Safety University Nomination and Course Evaluation.

OMB Control Number: 0584-NEW.

Summary of Collection: The collection of information is necessary for people to attend Produce Safety University (PSU), a training course designed to help child nutrition professionals identify and manage food safety risks associated with fresh produce. The PSU course is designed to be a train-the trainer immersion course, where participants are expected to conduct further training with their peers using the information they obtain during PSU.

Need and Use of the Information: FNS will collect course nomination from child nutrition professionals and State agency staff who wish to attend PSU. State agencies may nominate individuals to attend PSU and receive annual logistic information through a letter from FNS. The letter to States includes a link to theonlinecourse nomination. Toensure that PSU provides the most appropriate training content that is tailored to the audience, it is necessary to know the occupational make-up of each training co-hort. Therefore, job titles and the name of the organization nominees represent will be collected.Collecting this information on the course nomination will ensure that the Office of Food Safety offers this training opportunity equally among each of the States and seven FNS Regions. Contact information is needed from participants to support their learning experience; when PSU training sessions are held virtually, physical course materials are shipped to each participant. These materials include slides, activities, and supplemental print resources, making address collection necessary.

Program evaluation: The program evaluation instruments are each designed to collect specific information from respondents at specific times.

1. The Welcome Questions are given to confirm PSU participants to assess where the training cohort lies in terms of knowledge and experience, which allows for the training team to make minor changes based on the foundational knowledge a group may have.

2. The Course Evaluation involves questions following each session of PSU to assess if the session achieved its objective, and whether or not the time allotted was sufficient. The Course Evaluation also addresses how effective the training team and resources were in helping PSU participants grasp all information taught in the course. This information is crucial to ensure PSU is satisfying participants' expectations and supporting.

Description of Respondents: State, Local, and Tribal governments. Respondent groups identified include: (1) Child Nutrition program operators and (2) State agency staff.

Number of Respondents: 285.

Frequency of Responses: Reporting: On occasion.

Total Burden Hours: 138.

Ruth Brown,
Departmental Information Collection Clearance Officer.

[FR Doc. 2023-00633 Filed 1-12-23; 8:45 am]

BILLING CODE 3410-30-P